FEDERAL COMMUNICATIONS COMMISSION

Sunshine Act Meeting; Open Commission Meeting; Tuesday, September 29, 2009

Date: September 22, 2009.

The Federal Communications Commission will hold an Open Meeting on the subjects listed below on Tuesday, September 29, 2009, which is scheduled to commence at 1:00 p.m. in Room TW-C305, at 445 12th Street, SW., Washington, DC.

The meeting will feature presentations on the status of the Commission's processes for development of a National Broadband Plan.

The meeting site is fully accessible to people using wheelchairs or other mobility aids. Sign language interpreters, open captioning, and assistive listening devices will be provided on site. Other reasonable accommodations for people with disability are available upon request. Include a description of the accommodation you will need including as much detail as you can. In addition, include a way we can contact you if we need more information. Make your request as early as possible; please allow at least 5 days advance notice. Last minute request will be accepted, but may be impossible to fill. Send an e-mail to: fcc504@fcc.gov or call the Consumer & Government Affairs Bureau at 202-418-0530 (voice), 202-418-0432 (tty).

Additional information concerning this meeting may be obtained from Audrey Spivack or David Fisk, Office of Media Relations, 202-418-0500; TTY 1-888-835-5322. Audio/Video coverage of the meeting will be broadcasted live with open captioning over Internet from the FCC Audio/Video Events web page at http://www.fcc.gov/realaudio.

For a fee this meeting can be viewed live over George Mason University's Capital Connection. The Capital Connection also will carry the meeting live via the Internet. To purchase these services, call 703-993-3100 or go to http://www.capitalconnection.gmu.edu.

Copies of material adopted at this meeting can be purchased from the FCC's duplicating contractor, Best Copy and Printing, Inc., 202-488-5300; Fax 202-488-5563; TTY 202-488-5562. These copies are available in paper format and alternative media, including large print/type; digital disk; and audio and video tape. Best Copy and Printing, Inc. may be reached by e-mail at FCC@BCPIWEB.com.

Federal Communications Commission
Marlene H. Dortch,
Secretary.

[FR Doc. E9-23362 Filed 9-23-09; 4:15 pm]

BILLING CODE 6712-01-S